DEPARTMENT OF COMMERCE

International Trade Administration

[A-570-028]

Antidumping Duty Order on Hydrofluorocarbon Blends From the People's Republic of China: Final Negative Determination of Circumvention With Respect to R-410B From Mexico

AGENCY: Enforcement and Compliance, International Trade Administration, Department of Commerce.

SUMMARY: The U.S. Department of Commerce (Commerce) determines that imports of R-410B from Mexico, which are completed in Mexico using components originating in the People's Republic of China (China), and further processed in the United States, as specified below, are not circumventing the antidumping duty (AD) order on hydrofluorocarbon (HFC) blends from China.

DATES: Applicable November 12, 2024.

FOR FURTHER INFORMATION CONTACT: Ashley Cossaart, AD/CVD Operations, Office IX, Enforcement and Compliance, International Trade Administration, U.S. Department of Commerce, 1401 Constitution Avenue NW, Washington, DC 20230; telephone: (202) 482-0462.

SUPPLEMENTARY INFORMATION:

Background

On July 2, 2024, Commerce published in the Federal Register its Preliminary Determination that imports of R-410B completed in Mexico using Chinese-origin HFC components and subsequently exported from Mexico to the United States are not circumventing the Order and invited interested parties to comment.¹ On July 22, 2024, Commerce tolled certain deadlines in this administrative proceeding by seven days.² On August 12, 2024, Commerce postponed the deadline to issue the final determination in this circumvention inquiry by 65 days, until November 5, 2024.³ We received timely-filed case and rebuttal briefs from IGas Holdings, Inc. and the petitioner.⁴

¹ See Antidumping Duty Order on Hydrofluorocarbon Blends from the People's Republic of China: Preliminary Negative Determination of Circumvention With Respect to R-410B from Mexico, 89 FR 54768 (July 2, 2024), (Preliminary Determination), and accompanying Preliminary Decision Memorandum (PDM).

² See Memorandum, “Tolling of Deadlines for Antidumping and Countervailing Duty Proceedings,” dated July 22, 2024.

³ See Memorandum, “Extension of Final Determination in Circumvention Inquiry,” dated August 12, 2024.

⁴ The petitioner is the American HFC Coalition, which consists of individual members Arkema, Inc., The Chemours Company FC LLC, Honeywell International Inc., and Mexichem Fluor Inc.

For a summary of events that occurred since the Preliminary Determination, as well as a full discussion of the issues raised by parties for consideration in the final determination, see the Issues and Decision Memorandum.⁵ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁵ See Memorandum, “Issues and Decision Memorandum for the Circumvention Inquiry of the Antidumping Duty Order on Hydrofluorocarbon Blends from the People's Republic of China with Respect to Imports of R-410B from Mexico,” dated concurrently with, and hereby adopted by, this notice (Issues and Decision Memorandum).

Scope of the Order ⁶

⁶ See Hydrofluorocarbon Blends from the People's Republic of China: Antidumping Duty Order, 81 FR 55436 (August 19, 2016) (Order).

The products subject to the Order are HFC blends from China. For a complete description of the scope of the Order, see the Issues and Decision Memorandum.

Merchandise Subject to the Circumvention Inquiry

This circumvention inquiry covers imports of R-410B from Mexico, which are completed in Mexico using China-origin HFC components and further processed in the United States (inquiry merchandise).

Methodology

Commerce conducted this circumvention inquiry in accordance with section 781(a) of the Tariff Act of 1930, as amended (the Act), and 19 CFR 351.226. We made no changes to our methodology in the final determination. Therefore, for a complete description of the methodology underlying this circumvention inquiry, see the Preliminary Determination.

Analysis of Comments Received

All issues raised in this inquiry are addressed in the Issues and Decision Memorandum. A list of the issues raised is attached to this notice as an appendix. Based on our analysis of the comments received, we made no changes to the Preliminary Determination.

Final Circumvention Determination

Pursuant to section 781(a) of the Act, Commerce determines that R-410B from Mexico, completed in Mexico using HFC components from China, that is further processed in the United States, is not circumventing the Order. As a result, in accordance with section 781(a) of the Act, we determine that the inquiry merchandise should not be included within the scope of the Order.

Suspension of Liquidation and Cash Deposit Requirements

Pursuant to 19 CFR 351.226(l)(4), Commerce will order U.S. Customs and Border Protection to terminate the suspension of liquidation and refund cash deposits for any imports of inquiry merchandise that are suspended pursuant to this circumvention inquiry.

Administrative Protective Order

This notice will serve as the only reminder to all parties subject to an administrative protective order (APO) of their responsibility concerning the destruction of proprietary information disclosed under APO in accordance with 19 CFR 351.305(a)(3). Timely written notification of the return or destruction of APO materials or conversion to judicial protective order is hereby requested. Failure to comply with the regulations and the terms of an APO is a sanctionable violation.

Notification to Interested Parties

This determination is issued and published in accordance with section 781(a) of the Act and 19 CFR 351.226(g)(2).

Dated: November 5, 2024.
Abdelali Elouaradia,
Deputy Assistant Secretary for Enforcement and Compliance.

Appendix

List of Topics Discussed in the Issues and Decision Memorandum

I. Summary

II. Background

III. Scope of the Order

IV. Discussion of the Issues

Comment 1: Whether Commerce Should Continue to Reach a Negative Determination

Comment 2: Whether to Impose an End-Use Certification Requirement for Future Imports

Comment 3: Whether to Require IGas Holdings, Inc. (IGas Holdings) to Certify That it is Not Reblending or Reselling R-410B from Mexico

V. Recommendation

[FR Doc. 2024-26176 Filed 11-8-24; 8:45 am]

BILLING CODE 3510-DS-P